DEPARTMENT OF DEFENSE

Reserve Forces Policy Board; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Reserve Forces Policy Board (RFPB) will take place.

DATES: The RFPB will hold a meeting on Wednesday, June 6, 2018 from 8:40 a.m. to 3:00 p.m. The portion of the meeting from 8:40 a.m. to 12:30 p.m. will be closed to the public. The portion of the meeting from 1:15 p.m. to 3:00 p.m. will be open to the public.

ADDRESSES: The RFPB meeting address is the Pentagon, Room 3E863, Arlington, VA.

FOR FURTHER INFORMATION CONTACT: Alexander Sabol, (703) 681-0577 (Voice), 703-681-0002 (Facsimile), Alexander.J.Sabol.Civ@Mail.Mil (Email). Mailing address is Reserve Forces Policy Board, 5113 Leesburg Pike, Suite 601, Falls Church, VA 22041. Website: http://rfpb.defense.gov/. The most up-to-date changes to the meeting agenda can be found on the website.

SUPPLEMENTARY INFORMATION: Due to circumstances beyond the control of the Department of Defense (DoD) and the Designated Federal Officer, the Reserve Forces Policy Board was unable to provide public notification required by 41 CFR 102-3.150(a) concerning the meeting on June 6, 2018, of the Reserve Forces Policy Board. Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to obtain, review, and evaluate information related to strategies, policies, and practices designed to improve and enhance the capabilities, efficiency, and effectiveness of the Reserve Components.

Agenda: The RFPB will hold a meeting from 8:40 a.m. to 3:00 p.m. The portion of the meeting from 8:40 a.m. to 12:30 p.m. will be closed to the public and will consist of remarks to the RFPB from following invited speakers: The Performing the Duties of the Under Secretary of Defense for Personnel and Readiness will discuss the readiness of the force, personnel system reforms, and future strategies for Reserve Component use given the new National Military Strategy challenges in a constrained fiscal environment; the Vice Chief, National Guard Bureau will discuss the implications of the new National Defense Strategy on the National Guard and risks associated with meeting current and emerging threats while continuing to meet homeland defense requirements; the Chief of the Cyber Warfare Branch of the National Guard Bureau will discuss the USCYBERCOM's training and certification program of the Air National Guard's Cyber Mission Force Teams; the Secretary of the Army will discuss the Army's posture and progress on meeting the recommendations from the Report of the National Commission on the Future of the Army and plans to adapt the Total Army to meet the future challenges of the new National Defense Strategy and the integration of the Reserve Components' forces within the strategy; and the Director of the Air National Guard will discuss the priorities of the Air Guard, the Air Force Reserve Commission initiatives, and the Air Guard's challenges to balance force structure, pilot shortages, readiness and modernization while supporting the new National Defense Strategy. The portion of the meeting from 1:15 p.m. to 3:00 p.m. will be open to the public and will consist of briefings from the following: The Chair of the RFPB's Subcommittee on Supporting and Sustaining Reserve Component Personnel will provide an update to the RFPB for its consideration on the subcommittee's review and proposed recommendation to the Secretary of Defense concerning the DoD's Integrated Pay and Personnel System as it pertains to the Reserve Components; the Subcommittee on Ensuring a Ready, Capable, Available, and Sustainable Operational Reserve will provide an update to the RFPB for its consideration on the subcommittee's review and proposed recommendation to the Secretary of Defense concerning the DoD's “Operational Reserve” definition; and the Chair of the RFPB's Subcommittee on Enhancing DoD's Role in the Homeland will provide an update to the RFPB for its consideration on the subcommittee's review and proposed recommendations to the Secretary of Defense concerning the authority to use the National Guard in their Title 32 status for domestic and Homeland Security operations.

Meeting Accessibility: Pursuant to section 10(a)(1) of the FACA and 41 CFR 102-3.140 through 102-3.165, and subject to the availability of space, the meeting is open to the public from 1:15 p.m. to 3:00 p.m. Seating is on a first-come, first-served basis. All members of the public who wish to attend the public meeting must contact Mr. Alex Sabol, the Designated Federal Officer, not later than 12:00 p.m. on Tuesday, June 5, 2018, as listed in the FOR FURTHER INFORMATION CONTACT section to make arrangements for a Pentagon escort, if necessary. Public attendees requiring escort should arrive at the Pentagon Metro Entrance at 12:45 p.m. to provide sufficient time to complete security screening to attend the beginning of the Open Meeting at 1:15 p.m. on June 6. To complete the security screening, please be prepared to present two forms of identification. One must be a picture identification card. In accordance with section 10(d) of the FACA, 5 U.S.C. 552b(c), and 41 CFR 102-3.155, the DoD has determined that the portion of this meeting scheduled to occur from 8:40 a.m. to 12:30 p.m. will be closed to the public. Specifically, the Under Secretary of Defense (Personnel and Readiness), in coordination with the Department of Defense FACA Attorney, has determined in writing that this portion of the meeting will be closed to the public because it is likely to disclose classified matters covered by 5 U.S.C. 552b(c)(1).

Written Statements: Pursuant to section 10(a)(3) of the FACA and 41 CFR 102-3.105(j) and 102-3.140, interested persons may submit written statements to the RFPB about its approved agenda or at any time on the RFPB's mission. Written statements should be submitted to the RFPB's Designated Federal Officer at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the RFPB members before the meeting that is the subject of this notice. Please note that since the RFPB operates under the provisions of the FACA, all submitted comments and public presentations will be treated as public documents and will be made available for public inspection, including, but not limited to, being posted on the RFPB's website.

Dated: May 18, 2018.
Aaron T. Siegel,
Alternate OSD Federal Register Liaison Officer, Department of Defense.

[FR Doc. 2018-11078 Filed 5-23-18; 8:45 am]

BILLING CODE 5001-06-P